DEPARTMENT OF ENERGY

Federal Energy Regulatory Commission

[Project No. 14584-000]

Dynegy Point Estero Wave Park, LLC; Notice of Preliminary Permit Application Accepted for Filing and Soliciting Comments, Motions To Intervene, and Competing Applications

On February 7, 2014, Dynegy Point Estero Wave Park, LLC (Dynegy) filed an application for a preliminary permit, pursuant to section 4(f) of the Federal Power Act, proposing to study the feasibility of the proposed Point Estero Wave Park Project (project). The proposed project would be developed in a phased approach. First, under a demonstration phase, Dynegy plans to deploy a single approximately 1-megawatt (MW) GWAVE Power Generating Vessel (wave energy converter or WEC). Second, under a potential commercial license, Dynegy plans to deploy 10 to 16 approximately 1-MW WEC's. Third, Dynegy plans to seek authorization to deploy additional WEC's with a total installed capacity of 650 MW. Two or more high voltage submarine cables would transmit power to shore, interconnecting with Pacific Gas and Electric's switchyard facilities at Morro Bay. The requested project boundary comprises approximately 5.2 square nautical miles (4-miles-long by 1.5-miles-wide) of coastal waters and lands located along the coast of San Luis Obispo County, California, near the town of Morro Bay.

The sole purpose of a preliminary permit, if issued, is to grant the permit holder priority to file a license application during the permit term. A preliminary permit does not authorize the permit holder to perform any land disturbing or construction activities or to otherwise enter upon lands or waters owned by others without the owners' express permission.

Applicant Contact: Henry D. Jones, Dynegy Inc., 601 Travis, Suite 1400, Houston, TX 77002; (713) 767-0480.

FERC Contact: Jim Hastreiter, (503) 552-2760.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link.

For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and 5 copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14584) in the docket number field to access the document. For assistance, contact FERC Online Support.

Dated: July 16, 2014.
Kimberly D. Bose,
Secretary.

[FR Doc. 2014-17212 Filed 7-21-14; 8:45 am]

BILLING CODE 6717-01-P